FEDERAL TRADE COMMISSION

SES Performance Review Board

AGENCY: Federal Trade Commission.

ACTION: Notice.

SUMMARY: Notice is hereby given of the appointment of members to the FTC Performance Review Board.

FOR FURTHER INFORMATION CONTACT: Tamika Williams, Chief Human Capital Officer, 600 Pennsylvania Avenue NW, Washington, DC 20580, (202) 326-2184.

SUPPLEMENTARY INFORMATION: Publication of the Performance Review Board (PRB) membership is required by 5 U.S.C. 4314(c)(4). The PRB reviews and evaluates the initial appraisal of a senior executive's performance by the supervisor, and makes recommendations regarding performance ratings, performance awards, and pay-for-performance pay adjustments to the Chair.

The following individuals have been designated to serve on the Commission's Performance Review Board:

Lucas Croslow, General Counsel, PRB Chair

Daniel Guarnera, Director, Bureau of Competition

Christopher Mufarrige, Director, Bureau of Consumer Protection

David Robbins, Executive Director

Ted Rosenbaum, Deputy Director for Research and Management, Bureau of Economics

Rebecca Unruh, Deputy Director, Bureau of Consumer Protection

Katherine White, Deputy Director, Bureau of Consumer Protection

Tamika Williams, Chief Human Capital Officer

By direction of the Commission.
Joel Christie,
Acting Secretary.

[FR Doc. 2025-20761 Filed 11-21-25; 8:45 am]

BILLING CODE 6750-01-P